DEPARTMENT OF STATE

[Public Notice 10853]

30-Day Notice of Proposed Information Collection: Statement of Consent: Issuance of a U.S. Passport to a Minor

ACTION: Notice of request for public comment.

SUMMARY: The Department of State is seeking Office of Management and Budget (OMB) approval for the information collection described below. In accordance with the Paperwork Reduction Act of 1995, we are requesting comments on this collection from all interested individuals and organizations. The purpose of this notice is to allow 30 days for public comment preceding submission of the collection to OMB.

DATES: The Department will accept comments from the public up to September 26, 2019.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

SUPPLEMENTARY INFORMATION:

• Title of Information Collection: Statement of Consent: Issuance of a U.S. Passport to a Minor.

• OMB Control Number: 1405-0129.

• Type of Request: Revision of a Currently Approved Collection.

• Originating Office: Bureau of Consular Affairs, Passport Services, Office of Program Management and Operational Support (CA/PPT/S/PMO/CR).

• Form Number: DS-3053.

• Respondents: Individuals.

• Estimated Number of Respondents: 523,213.

• Estimated Number of Responses: 523,213.

• Average Time per Response: 20 minutes.

• Total Estimated Burden Time: 174,404 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected on the DS-3053 is used to facilitate the issuance of passports to U.S. citizens and nationals under age 18. The primary purpose of soliciting the information is to ensure that parents and/or guardians consent to the issuance of a passport to a minor when required by 22 CFR 51.28.

Methodology

The Department collects information from the parents or legal guardians of U.S. national minors when they complete and submit the Statement of Consent: Issuance of a Passport to a Minor. Passport applicants can either download the DS-3053 from the internet or obtain one from an Acceptance Facility/Passport Agency. The form must be completed, signed, and submitted along with the applicant's DS-11, Application for a U.S. Passport.

Rachel Arndt,
Deputy Assistant Secretary for Passport Services.

[FR Doc. 2019-18358 Filed 8-26-19; 8:45 am]

BILLING CODE 4710-06-P